DEPARTMENT OF ENERGY

Federal Energy Regulatory Commission

[Docket Nos. EL03-47-000, QF90-203-004, and QF89-251-008]

Investigation of Certain Enron-Affiliated QFs, Saguaro Power Company, Las Vegas Cogeneration Limited Partnership; Notice of Initiation of Proceeding and Comment Filing Date

February 28, 2003.

Take notice that on February 24, 2003, the Commission issued an Order Initiating Investigation and Establishing Hearing Procedures in Docket Nos. EL03-47-000, QF90-203-004 and QF89-251-008.

By this notice, the Commission establishes that the date for the filing of motions to intervene, comments, and protests is March 17, 2003.

Magalie R. Salas,
Secretary.

[FR Doc. 03-5375 Filed 3-6-03; 8:45 am]

BILLING CODE 6717-01-P